DEPARTMENT OF JUSTICE

Antitrust Division

Notice Pursuant to the National Cooperative Research and Production Act of 1993—The Hop Breeding Company, LLC

Notice is hereby given that, on December 3, 2002, pursuant to section 6(a) of the National Cooperative Research and Production Act of 1993, 15 U.S.C. 4301 et seq. (“the Act”), The Hop Breeding Company, LLC has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are John I. Haas, Inc., Washington, DC; and Yakima Chief Ranches, LLC, Sunnyside, WA. The nature and objectives of the venture are to develop pest-resistant and disease-resistant hop varieties with strong commercial qualities.

Constance K. Robinson,
Director of Operations, Antitrust Division.

[FR Doc. 03-628 Filed 1-10-03; 8:45 am]

BILLING CODE 4410-11-M